DEPARTMENT OF ENERGY

Federal Energy Regulatory Commission

Combined Notice of Filings

November 30, 2009.

Take notice that the Commission has received the following Natural Gas Pipeline Rate and Refund Report filings:

Docket Numbers: RP10-174-000.

Applicants: Colorado Interstate Gas Company.

Description: Colorado Interstate Gas Company submits Eleventh Revised Sheet 230 et al. to FERC Gas Tariff, First Revised Volume 1, to be effective 1/1/10.

Filed Date: 11/23/2009.

Accession Number: 20091125-0040.

Comment Date: 5 p.m. Eastern Time on Monday, December 07, 2009.

Docket Numbers: RP10-175-000.

Applicants: Tennessee Gas Pipeline Company.

Description: Tennessee Gas Pipeline Company submits two negotiated rate firm transportation arrangements with Macquarie Cook Energy, LLC.

Filed Date: 11/23/2009.

Accession Number: 20091125-0039.

Comment Date: 5 p.m. Eastern Time on Monday, December 07, 2009.

Docket Numbers: RP10-176-000.

Applicants: Southern Natural Gas Company.

Description: Southern Natural Gas Company submits letter re Derivation of Surcharge Adjustment pursuant to Section 14.2 of the General Terms and Conditions of FERC Gas Tariff—Schedule 1.

Filed Date: 11/23/2009.

Accession Number: 20091125-0037.

Comment Date: 5 pm Eastern Time on Monday, December 07, 2009.

Docket Numbers: RP10-177-000.

Applicants: Gas Transmission Northwest Corporation.

Description: Gas Transmission Northwest Corporation submits Twenty First Revised Sheet 24 et al. to FERC Gas Tariff, Third Revised Volume 1A, to be effective 11/21/09.

Filed Date: 11/23/2009.

Accession Number: 20091125-0038.

Comment Date: 5 pm Eastern Time on Monday, December 07, 2009.

Docket Numbers: RP10-178-000.

Applicants: Steuben Gas Storage Company.

Description: Steuben Gas Storage Company submits Sixth Revised Sheet 13 et al. of its FERC Gas Tariff, Original Volume 1, to be effective 12/1/09.

Filed Date: 11/24/2009.

Accession Number: 20091125-0071.

Comment Date: 5 p.m. Eastern Time on Monday, December 07, 2009.

Docket Numbers: RP10-180-000.

Applicants: Transcontinental Gas Pipe Line Company.

Description: Transcontinental Gas Pipe Line Co, LLC submits First Revised Sheet No. 500 et al. to FERC Gas Tariff, Fourth Revised Volume No. 1.

Filed Date: 11/25/2009.

Accession Number: 20091125-0137.

Comment Date: 5 p.m. Eastern Time on Monday, December 07, 2009.

Docket Numbers: RP10-181-000.

Applicants: Natural Gas Pipeline Company of America.

Description: Natural Gas Pipeline Company of America LLC submits Original Sheet No 35C.06 to FERC Gas Tariff, Seventh Revised Volume No 1.

Filed Date: 11/25/2009.

Accession Number: 20091125-0133.

Comment Date: 5 p.m. Eastern Time on Monday, December 07, 2009.

Docket Numbers: RP10-182-000.

Applicants: Natural Gas Pipeline Company of America.

Description: Natural Gas Pipeline Company of America LLC submits amendment to an existing discount rate Transportation Rate Schedule FTS Agreement between Natural and MidAmerican Energy Company.

Filed Date: 11/25/2009.

Accession Number: 20091125-0135.

Comment Date: 5 p.m. Eastern Time on Monday, December 07, 2009.

Docket Numbers: RP10-183-000.

Applicants: Natural Gas Pipeline Company of America.

Description: Natural Gas Pipeline Company of America LLC submits amendment to the Transportation Rate Schedule FTS Agreement with a negotiated rate exhibit between Natural and Wisconsin Electric Power Company.

Filed Date: 11/25/2009.

Accession Number: 20091125-0134.

Comment Date: 5 p.m. Eastern Time on Monday, December 07, 2009.

Docket Numbers: RP10-184-000.

Applicants: Gulf Crossing Pipeline Company LLC.

Description: Gulf Crossing Pipeline Company LLC submits permanent Capacity Release Negotiated Rate Letter Agreement.

Filed Date: 11/25/2009.

Accession Number: 20091125-0136.

Comment Date: 5 p.m. Eastern Time on Monday, December 07, 2009.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-29086 Filed 12-4-09; 8:45 am]

BILLING CODE 6717-01-P